DEPARTMENT OF TRANSPORTATION

National Highway Traffic Safety Administration

49 CFR Part 571

[Docket No. NHTSA-2009-0093]

RIN 2127-AG51

Federal Motor Vehicle Safety Standards; Roof Crush Resistance

AGENCY: National Highway Traffic Safety Administration (NHTSA), Department of Transportation.

ACTION: Final rule; correcting amendment.

SUMMARY: In May 2009 we published a final rule that upgraded the agency's safety standard on roof crush resistance. In this document, we correct two errors in that rule. We also identify errors in the preamble to that rule.

DATES: This rule is effective May 7, 2010.

FOR FURTHER INFORMATION CONTACT: For non-legal issues, you may call Christopher J. Wiacek, NHTSA Office of Crashworthiness Standards, telephone 202-366-4801. For legal issues, you may call J. Edward Glancy, NHTSA Office of Chief Counsel, telephone 202-366-2992. You may send mail to these officials at the National Highway Traffic Safety Administration, 1200 New Jersey Avenue, SE., West Building, Washington, DC 20590.

SUPPLEMENTARY INFORMATION: On May 12, 2009, as part of a comprehensive plan for reducing the serious risk of rollover crashes and the risk of death and serious injury in those crashes, NHTSA published in the Federal Register (74 FR 22348) ¹ a final rule substantially upgrading Federal Motor Vehicle Safety Standard (FMVSS) No. 216, Roof Crush Resistance. The upgraded standard is designated FMVSS No. 216a.

¹ Docket No. NHTSA-2009-0093.

In this document, we correct two errors in that rule. We also identify errors in the preamble to that rule.

We note that we are also publishing two separate documents related to the May 2009 final rule. One is a fuller response to comments submitted by the National Truck Equipment Association on our proposal to upgrade FMVSS No. 216. The other is a response to petitions for reconsideration of the May 2009 final rule.

Correcting Amendments

One of the correcting amendments incorporates a provision that was discussed in the preamble but inadvertently omitted from the regulatory text. As explained in the preamble, the agency decided to exclude a narrow category of multi-stage vehicles from FMVSS No. 216, multi-stage trucks with a GVWR greater than 2,722 kilograms (6,000 pounds) not built using a chassis cab or using an incomplete vehicle with a full exterior van body. We included a specific discussion concerning incomplete vehicles with a full exterior van body in the preamble,² but the regulatory text inadvertently omitted the reference to incomplete vehicles with a full exterior van body. We are correcting FMVSS No. 216a by adding that phrase at S3.1(a)(4).

² 74 FR at 22373.

The other correcting amendment corrects a cross-reference to the seat positioning procedure for the 50th percentile male dummy of FMVSS No. 214 Side Impact Protection. The reference is included in the introductory text of S7.2 of FMVSS No. 216a. As corrected, S7.2 specifically cross-references the seat positioning procedure for the 50th percentile male ES-2re dummy in S8.3.1 of FMVSS No. 214.

Errors in Preamble

Safety Analysis & Forensic Engineering, LLC (SAFE) brought to our attention errors in the preamble that incorrectly attributed to it the comments of another organization, Safety Analysis, Inc. Both of these organizations submitted comments.

The errors were included in a section of the preamble titled “Roof Crush as a Cause of Injury” beginning at 74 FR 22378, and in the immediately following section titled “Agency Response” at 74 FR 22379. Each of the references to SAFE in these sections should have been attributed to Safety Analysis, Inc. SAFE noted that there is no affiliation between SAFE and Safety Analysis, Inc. and also stated the most of the positions taken by SAFE in its comments are diametrically opposed to the positions taken by Safety Analysis, Inc. We apologize for these errors.

List of Subjects in 49 CFR Part 571

Imports, Motor vehicle safety, Motor vehicles, Rubber and rubber products, and Tires.

Accordingly, 49 CFR part 571 is corrected by making the following correcting amendments:

PART 571—FEDERAL MOTOR VEHICLE SAFETY STANDARDS

1. The authority citation for part 571 of title 49 continues to read as follows:

Authority: 49 U.S.C. 322, 30111, 30115, 30117, and 30166; delegation of authority at 49 CFR 1.50.

2. Section 571.216a is amended by revising S3.1(a)(4) and S7.2 introductory text to read as follows:

§ 571.216a Standard No. 216a; Roof crush resistance; Upgraded standard.

* * * * *

S3.1 Application.

(a) * * *

(4) Trucks built in two or more stages with a GVWR greater than 2,722 kilograms (6,000 pounds) not built using a chassis cab or using an incomplete vehicle with a full exterior van body.

* * * * *

S7.2 Adjust the seats in accordance with S8.3.1 of 49 CFR 571.214. Position the top center of the head form specified in S5.2 of 49 CFR 571.201 at the location of the top center of the Head Restraint Measurement Device (HRMD) specified in 49 CFR 571.202a, in the front outboard designated seating position on the side of the vehicle being tested as follows:

* * * * *

Issued on: April 2, 2010.
Stephen R. Kratzke,
Associate Administrator for Rulemaking.

[FR Doc. 2010-7909 Filed 4-6-10; 8:45 am]

BILLING CODE 4910-59-P